DEPARTMENT OF LABOR

Mine Safety and Health Administration

Petitions for Modification

The following party has filed petitions to modify the application of the existing safety standard under section 101(c) of the Federal Mine Safety and Health Act of 1977.

1. Anthracite Underground Rescue, Inc.

[Docket Nos. M-2000-057-C through M-2000-083-C]

Anthracite Underground Rescue, Inc., 44 Crescent Street, Tremont, Pennsylvania 17981 has filed petitions to modify the application of 30 CFR 49.2 (availability of mine rescue teams) on behalf of the following Anthracite Underground Mines: (1) M & H Coal Co., (I.D. No. 36-01920), Docket No. M-2000-057-C; (2) UAE Coalcorp Assoc. (I.D. No. 36-07838), Docket No. M-2000-058-C; (3) M & M Coal Company (I.D. No. 36-08744), Docket No. M-2000-059-C; (4) H & R Coal Company (I.D. No. 36-08288), Docket No. M-2000-060-C; (5) AL Coal Company (I.D. No. 36-07018), Docket No. M-2000-061-C; (6) West End Coal Company (I.D. No. 36-07859), Docket No. M-2000-062-C; (7) Three W-M Coal Company (I.D. No. 36-08806), Docket No. M-2000-063-C); (8) Summit Anthracite, Inc., (I.D. No. 36-07328), Docket No. M-2000-064-C; (9) Snyder Rattling Run (I.D. No. 36-08713), Docket No. M-2000-065-C; (10) Snyder Coal Company, N&L Slope (I.D. No. 36-02203), Docket No. M-2000-066-C; (11) S & M Coal Company (I.D. No. 36-02022), Docket No. M-2000-067-C; (12) R S & W Coal Company (I.D. No. 36-01818), Docket No. M-2000-068-C; (13) Rhen Coal Company (I.D. No. 36-08031), Docket No. M-2000-069-C; (14) R & D Coal Company (I.D. No. 36-02053), Docket No. M-2000-070-C); (15) Primrose Coal Company (I.D. No. 36-08698), Docket No. M-2000-071-C; (16) Nowacki Coal Company (I.D. No. 36-07592), Docket No. M-2000-072-C; (17) Morgan Run Coal Company (I.D. No. 36-08559), Docket No. M-2000-073-C; (18) Little Rock Coal Company (I.D. No. 36-08320), Docket No. M-2000-074-C; (19) Little Buck Coal Company (I.D. No. 36-08568), Docket No. M-2000-075-C; (20) Jordan Coal Company (I.D. No. 36-07681), Docket No. M-2000-076-C; (21) Joliett Coal Company (I.D. No. 36-08702), Docket No. M-2000-077-C; (22) H L & W Coal Company (I.D. No. 36-07269), Docket No. M-2000-078-C; (23) B & L Coal Company (I.D. No. 36-08498), Docket No. M-2000-079-C; (24) FKZ Coal Company (I.D. No. 36-08637), Docket No. M-2000-080-C; (25) DJT Coal Company (I.D. No. 36-08454), Docket No. M-2000-081-C; (26) D & D (I.D. No. 36-08341), Docket No. M-2000-082-C; and (27) Chestnut Coal Company (I.D. No. 36-07059), Docket No. M-2000-083-C. The petitioner requests a modification of the standard to permit the reduction of two mine rescue teams with five members and one alternate each, to two mine rescue teams of three members with one alternate for either team for the Anthracite Underground Mines listed above. The petitioner asserts that application of the existing standard would result in a diminution of safety to the miners and that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before July 31, 2000. Copies of these petitions are available for inspection at that address.

Dated: June 23, 2000.
Carol J. Jones,
Director, Office of Standards, Regulations, and Variances.

[FR Doc. 00-16465 Filed 6-28-00; 8:45 am]

BILLING CODE 4510-43-P